DEPARTMENT OF THE TREASURY

Open Meeting of the President's Advisory Council on Financial Literacy

AGENCY: Office of Financial Education, Treasury.

ACTION: Notice of meeting.

SUMMARY: The President's Advisory Council on Financial Literacy will convene its second meeting on Monday, May 5, 2008, via teleconference beginning at 1 p.m. Eastern Time. The telephone meeting will be open to the public. Members of the public interested in listening to the meeting should call 202-622-5770 or e-mail FinancialLiteracyCouncil@do.treas.gov to obtain the conference call number. Individuals needing special accommodations to take part because of a disability should notify the contact person listed below.

DATES: The telephone meeting will be held on Monday, May 5, 2008, at 1 p.m. Eastern Time.

ADDRESSES: The public is invited to submit written statements with the President's Advisory Council on Financial Literacy by any one of the following methods:

Electronic Statements

E-mail FinancialLiteracyCouncil@do.treas.gov; or

Paper Statements

Send paper statements in triplicate to President's Advisory Council on Financial Literacy, Office of Financial Education, Room 1332, Department of the Treasury, 1500 Pennsylvania Avenue, NW., Washington, DC 20220.

In general, the Department will post all statements on its Web site (http://www.treasury.gov/offices/domestic-finance/financial-institution/fin-education/council/index.shtml) without change, including any business or personal information provided such as names, addresses, e-mail addresses, or telephone numbers. The Department will make such statements available for public inspection and copying in the Department's library, Room 1428, Main Department Building, 1500 Pennsylvania Avenue, NW., Washington, DC 20220, on official business days between the hours of 10 a.m. and 5 p.m. You can make an appointment to inspect statements by telephoning (202) 622-0990. All statements, including attachments and other supporting materials, received are part of the public record and subject to public disclosure. You should submit only information that you wish to make available publicly.

FOR FURTHER INFORMATION CONTACT: Tom Kurek, Program Coordinator, Office of Financial Education, Department of the Treasury, Main Department Building, 1500 Pennsylvania Avenue, NW., Washington, DC 20220, at (202) 622-5770 or thomas.kurek@do.treas.gov.

SUPPLEMENTARY INFORMATION: In accordance with section 10(a) of the Federal Advisory Committee Act, 5 U.S.C. App. 2 and the regulations thereunder, Dubis Correal, Designated Federal Officer of the Advisory Council, has ordered publication of this notice that the President's Advisory Council on Financial Literacy will convene its second meeting on Monday, May 5, 2008, via teleconference beginning at 1 p.m. Eastern Time. The meeting will be open to the public. Members of the public who wish to participate should contact the Office of Financial Education at 202-622-5770 or FinancialLiteracyCouncil@do.treas.gov by 5 p.m. Eastern Time on Friday, May 2, 2008 to obtain the conference call number. The purpose of this telephone meeting is for the President's Advisory Council on Financial Literacy to obtain an update on the work of the subgroups and to follow-up on issues from the first meeting.

The Federal Advisory Committee Act (5 U.S.C. App. 2), and implementing regulations, requires notice in the Federal Register 15 days in advance of a committee meeting. An agency may give less than 15 days notice in exceptional circumstances. Due to logistical circumstances and to report on the progress of the Council's subgroups on the important issues surrounding financial education, this notice period is being shortened by one day.

Dated: April 16, 2008.
Taiya Smith,
Executive Secretary, Treasury Department.

[FR Doc. E8-8585 Filed 4-18-08; 8:45 am]

BILLING CODE 4810-25-P